DEPARTMENT OF ENERGY

Federal Energy Regulatory Commission

[Docket No. EL16-4-000]

CPV Shore, LLC; Notice of Institution of Section 206 Proceeding and Refund Effective Date

On November 3, 2015, the Commission issued an order in Docket No. EL16-4-000, pursuant to section 206 of the Federal Power Act (FPA), 16 U.S.C. 824e (2012), instituting an investigation into the justness and reasonableness of CPV Shore, LLC's Reactive Power Tariff. CPV Shore, LLC, 153 FERC ¶ 61,139 (2015).

The refund effective date in Docket No. EL16-4-000, established pursuant to section 206(b) of the FPA, will be January 1, 2016.

Dated: November 3, 2015.
Nathaniel J. Davis, Sr.,
Deputy Secretary.

[FR Doc. 2015-28422 Filed 11-6-15; 8:45 am]

BILLING CODE 6717-01-P